DEPARTMENT OF TRANSPORTATION

Federal Aviation Administration

14 CFR Part 39

[Docket No. 99-NM-372-AD; Amendment 39-11721; AD 2000-09-12]

RIN 2120-AA64

Airworthiness Directives; Raytheon (Beech) Model 400A and 400T Series Airplanes

AGENCY: Federal Aviation Administration, DOT.

ACTION: Final rule.

SUMMARY: This amendment adopts a new airworthiness directive (AD), applicable to certain Raytheon (Beech) Model 400A and 400T series airplanes, that requires replacement of temperature switch assemblies of the wing ice protection system with new, improved parts. This amendment is prompted by reports of electrical continuity problems with solder joints on the temperature switches of the wing ice protection system. The actions specified by this AD are intended to prevent detachment or breakage of wires in the temperature switch assemblies of the wing ice protection system. Such detachment or breakage of wires could result in the flightcrew not being advised of an over-temperature situation on the leading edge of the wing, which could result in structural damage to the wing.

DATES: Effective June 16, 2000.

The incorporation by reference of certain publications listed in the regulations is approved by the Director of the Federal Register as of June 16, 2000.

ADDRESSES: The service information referenced in this AD may be obtained from Raytheon Aircraft Company, Manager Service Engineering, Beechjet/Premier Technical Support Department, P.O. Box 85, Wichita, Kansas 67201-0085. This information may be examined at the Federal Aviation Administration (FAA), Transport Airplane Directorate, Rules Docket, 1601 Lind Avenue, SW., Renton, Washington; or at the FAA, Small Airplane Directorate, Wichita Aircraft Certification Office, 1801 Airport Road, Room 100, Mid-Continent Airport, Wichita, Kansas; or at the Office of the Federal Register, 800 North Capitol Street, NW., suite 700, Washington, DC.

FOR FURTHER INFORMATION CONTACT: Philip Petty, Aerospace Engineer, Systems and Propulsion Branch, ACE-116W, FAA, Small Airplane Directorate, Wichita Aircraft Certification Office, 1801 Airport Road, Room 100, Mid-Continent Airport, Wichita, Kansas 67209; telephone (316) 946-4139; fax (316) 946-4407.

SUPPLEMENTARY INFORMATION: A proposal to amend part 39 of the Federal Aviation Regulations (14 CFR part 39) to include an airworthiness directive (AD) that is applicable to certain Raytheon (Beech) Model 400A and 400T series airplanes was published in the Federal Register on January 12, 2000 (65 FR 1836). That action proposed to require replacement of temperature switch assemblies of the wing ice protection system with new, improved parts.

Comments

Interested persons have been afforded an opportunity to participate in the making of this amendment. No comments were submitted in response to the proposal or the FAA's determination of the cost to the public.

Conclusion

The FAA has determined that air safety and the public interest require the adoption of the rule as proposed.

Cost Impact

There are approximately 404 airplanes of the affected design in the worldwide fleet. The FAA estimates that 366 airplanes of U.S. registry will be affected by this AD, that it will take approximately 30 work hours per airplane to accomplish the required replacement, and that the average labor rate is $60 per work hour. Required parts will be provided by the manufacturer at no cost to the operators. Based on these figures, the cost impact of the AD on U.S. operators is estimated to be $658,800, or $1,800 per airplane.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-09-12 Raytheon Aircraft Company (Formerly Beech): Amendment 39-11721. Docket 99-NM-372-AD.

Applicability: Model 400A series airplanes, having serial numbers RK-01 through RK-188 inclusive; Model 400T (T-1A) series airplanes, having serial numbers TT-01 through TT-180 inclusive; and Model 400T (TX) series airplanes, having serial numbers TX-01 through TX-09 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent detachment or breakage of wires in the temperature switch assemblies of the wing ice protection system, which could result in the flightcrew not being advised of an over-temperature situation on the leading edge of the wing, and consequent structural damage to the wing, accomplish the following:

Replacement

(a) At the next scheduled inspection, but no later than 200 flight hours after the effective date of this AD, replace temperature switch assemblies of the wing ice protection system with new, improved temperature switch assemblies, in accordance with Raytheon Service Bulletin 30-3008, Revision 1, dated August 1999.

Note 2: Replacements accomplished prior to the effective date of this AD in accordance with Raytheon Service Bulletin 30-3008, dated March 1999, are considered acceptable for compliance with the applicable action specified in this AD.

Spares

(b) As of the effective date of this AD, no person shall install, on any airplane, a temperature switch assembly having a part number listed in the “Old Part Number” column of the table in 2.D. of Raytheon Service Bulletin 30-3008, Revision 1, dated August 1999.

Alternative Methods of Compliance

(c) An alternative method of compliance or adjustment of the compliance time that provides an acceptable level of safety may be used if approved by the Manager, Wichita Aircraft Certification Office (ACO), FAA, Small Airplane Directorate. Operators shall submit their requests through an appropriate FAA Principal Maintenance Inspector, who may add comments and then send it to the Manager, Wichita ACO.

Note 3: Information concerning the existence of approved alternative methods of compliance with this AD, if any, may be obtained from the Wichita ACO.

Special Flight Permits

(d) Special flight permits may be issued in accordance with sections 21.197 and 21.199 of the Federal Aviation Regulations (14 CFR 21.197 and 21.199) to operate the airplane to a location where the requirements of this AD can be accomplished.

Incorporation by Reference

(e) The replacement shall be done in accordance with Raytheon Service Bulletin 30-3008, Revision 1, dated August 1999. This incorporation by reference was approved by the Director of the Federal Register in accordance with 5 U.S.C. 552(a) and 1 CFR part 51. Copies may be obtained from Raytheon Aircraft Company, Manager Service Engineering, Beechjet/Premier Technical Support Department, P.O. Box 85, Wichita, Kansas 67201-0085. Copies may be inspected at the FAA, Transport Airplane Directorate, 1601 Lind Avenue, SW., Renton, Washington; or at the FAA, Small Airplane Directorate, Wichita Aircraft Certification Office, 1801 Airport Road, Room 100, Mid-Continent Airport, Wichita, Kansas; or at the Office of the Federal Register, 800 North Capitol Street, NW., suite 700, Washington, DC.

(f) This amendment becomes effective on June 16, 2000.

Issued in Renton, Washington, on May 3, 2000.
Vi L. Lipski,
Acting Manager, Transport Airplane Directorate, Aircraft Certification Service.

[FR Doc. 00-11549 Filed 5-11-00; 8:45 am]

BILLING CODE 4910-13-P